DEPARTMENT OF HEALTH AND HUMAN SERVICES

Centers for Disease Control and Prevention

[30Day-16-15BM]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Assessing the Impact of Organizational and Personal Antecedents on Proactive Health/Safety Decision Making—New—National Institute for Occupational Safety and Health (NIOSH), Centers for Disease Control and Prevention (CDC).

Background and Brief Description

NIOSH, under Public Law 91-596, Sections 20 and 22 (Section 20-22, Occupational Safety and Health Act of 1977) has the responsibility to conduct research relating to innovative methods, techniques, and approaches dealing with occupational safety and health problems.

This research relates to the interplay of personal, organizational, and cultural influences on risk-taking and proactive decision-making behaviors among mine workers. The antecedents, or characteristics, that impact these behaviors are not well understood in mining. Understanding the degree to which antecedents influence decisions can inform the focus of future health and safety management interventions.

NIOSH proposes a project that seeks to empirically understand the following: What are the most important organizational antecedent characteristics needed to support worker health and safety (H&S) performance behaviors in the mining industry?

What are the most important personal antecedent characteristics needed to support worker health and safety (H&S) performance behaviors in the mining industry?

To answer the above questions, NIOSH researchers developed a psychometrically supported survey. Researchers identified seven worker perception-based `organizational values' and four `personal characteristics' that are presumed to be important in fostering H&S knowledge, motivation, proactive behaviors, and safety outcomes. Because these emergent, worker perception-based constructs have a theoretical and empirical history, psychometrically tested items exist for each of them.

NIOSH researchers will administer this survey at mine sites to as many participating mine workers as possible to answer the research questions. Upon data collection and analysis NIOSH researchers will revalidate each scale to ensure that measurement is valid. A quantitative approach, via a short survey, allows for prioritization, based on statistical significance, of the antecedents that have the most critical influence on proactive behaviors. Data collection will take place with approximately 1800 mine workers over three years. The respondents targeted for this study include any active mine worker at a mine site, both surface and underground. All participants will be between the ages of 18 and 75, currently employed, and living in the United States. Participation will require no more than 20 minutes of workers' time (5 minutes for consent and 15 minutes for the survey). There is no cost to respondents other than their time.

Upon collection of the data, it will be used to answer what organizational/personal characteristics have the biggest impact on proactive and compliant health and safety behaviors. Dominance and relative weights analysis will be used as the data analysis method to statistically rank order the importance of predictors in numerous regression contexts. Safety proactive and safety compliance will serve as the dependent variables in these regression analyses, with the organizational and personal characteristics as independent variables.

Findings will be used to improve the safety and health organizational values and focus of mine organizations, as executed through their health and safety management system for mitigating health and safety risks at their mine site. Specifically, if organizations are lacking in values that are of high importance among employees, site leadership knows where to focus new, innovative methods, techniques, and approaches to dealing with their occupational safety and health problems. Finally, the data can be directly compared to data from other mine organizations that administered the same standardized methods to provide broader context for areas in which the mining industry can focus more attention if trying to encourage safer work behavior.

An estimated sample of up to 1,800 mine employees will be collected from various mining operations which have agreed to participate. In order to reach a sample of 1,800, researchers will try to secure participation from approximately twenty-one mine operations. It is estimated that it will take about 5 minutes to recruit a particular mine and 5 minutes to consent the individual workers. The amount of time to complete the survey data collection instrument is about 15 minutes. There is no cost to respondents other than there time.

Estimated Annualized Burden Hours
Type of respondent | Form name | Number of respondents | Number of responses per respondent | Average burden per response (in hours)
Safety/health Mine Operator | Mine Recruitment Script | 7 | 1 | 5/60
Mine Worker | Individual Miner Recruitment Script | 600 | 1 | 5/60
Mine Worker | Survey | 600 | 1 | 15/60

Leroy A. Richardson,
Chief, Information Collection Review Office, Office of Scientific Integrity, Office of the Associate Director for Science, Office of the Director, Centers for Disease Control and Prevention.

[FR Doc. 2016-00562 Filed 1-13-16; 8:45 am]

BILLING CODE 4163-18-P